DEPARTMENT OF COMMERCE

National Oceanic and Atmospheric Administration

[I.D. 031306D]

National Marine Fisheries Service, Pacific Fishery Management Council; April 2-7, 2006 Council Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet April 2-7, 2006. The Council meeting will begin on Monday, April 3, at 3 p.m., reconvening each day through Friday. All meetings are open to the public, except a closed session will be held from 3 p.m. until 4 p.m. on Monday, April 3 to address litigation and personnel matters. The Council will meet as late as necessary each day to complete its scheduled business.

ADDRESSES: The meetings will be held at the DoubleTree Hotel Sacramento, 2001 Point West Way, Sacramento, CA 95819; telephone: 916-929-8855.

Council address: Pacific Fishery Management Council, 7700 NE Ambassador Place, Suite 200, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks and Introductions

2. Roll Call

3. Executive Director's Report

4. Approve Agenda

B. Administrative Matters

1. Approval of Council Meeting Minutes

2. Future Council Meeting Agenda Planning

3. Status Report on Draft Regional Operating Agreements for Regulatory Streamlining

4. Appointments to Advisory Bodies, Standing Committees, and Other Forum, Including any Necessary Changes to Council Operating Procedures

5. Council Three-Meeting Outlook, Draft June 2006 Council Meeting Agenda, and Workload Priorities

C. Habitat

1. Current Habitat Issues

D. Pacific Halibut Management

1. Incidental Catch Regulations for the Salmon Troll and Fixed Gear Sablefish Fisheries

E. Salmon Management

1. Identification of Stocks Not Meeting Conservation Objectives

2. Tentative Adoption of 2006 Ocean Salmon Management Measures for Analysis

3. Methodology Review Process and Preliminary Topic Selection for 2006

4. Role of the Klamath Fisheries Management Council

5. Clarify Council Direction for 2006 Ocean Salmon Management Measures (if Needed)

7. Final Action on 2006 Ocean Salmon Management Measures

8. Clarify Final Action on 2006 Ocean Salmon Management Measures (if Needed)

F. Groundfish Management

1. Management Specifications for 2007-2008 Groundfish Fisheries

2. NMFS Report

3. Stock Assessment Planning for the 2009-2010 Fishing Season

4. Status of 2006 Groundfish Fisheries and Consideration of Inseason Adjustments

5. Part I of Management Measures for 2007-2008 Groundfish Fisheries

6. Part II of Management Measures for 2007-2008 Groundfish Fisheries

7. Final Consideration of 2006 Inseason Adjustments

G. Highly Migratory Species Management

1. Bigeye Tuna Overfishing Response

2. Albacore Management Measures

3. NMFS Report

H. Enforcement Issues

1. U.S. Coast Guard Report on Implementation of the Automatic Identification and Vessel Monitoring Systems

I. Marine Protected Areas (MPA)

1. Fishery Regulation in MPAs within the Channel Islands National Marine Sanctuary through Magnuson-Stevens Act and State Management Authority

2. Final Council Recommendation on Consultation Procedures for Fishing Regulations in National Marine Sanctuaries

SCHEDULE OF ANCILLARY MEETINGS

SUNDAY, April 2, 2006

Groundfish Advisory Subpanel 1 p.m.

Groundfish Management Team 1 p.m.

Klamath Fishery Management Council 3 p.m.

Special Joint Session: Briefing on Groundfish

Specifications and Rebuilding Revisions 6:30 p.m.

MONDAY, April 3, 2006

Council Secretariat 8 a.m.

Groundfish Advisory Subpanel 8 a.m.

Groundfish Management Team 8 a.m.

Klamath Fishery Management Council 8 a.m.

Salmon Advisory Subpanel 8 a.m.

Salmon Technical Team 8 a.m.

Scientific and Statistical Committee 8 a.m.

Habitat Committee 10 a.m.

Enforcement Consultants 5:30 p.m.

Tribal Policy Group As necessary

Tribal and Washington Technical Group As necessary

Washington State Delegation As necessary

TUESDAY, April 4, 2006

Council Secretariat 7 a.m.

California State Delegation 7 a.m.

Oregon State Delegation 7 a.m.

Groundfish Advisory Subpanel 8 a.m.

Groundfish Management Team 8 a.m.

Salmon Advisory Subpanel 8 a.m.

Salmon Technical Team 8 a.m.

Scientific and Statistical Committee 8 a.m.

Chair's Reception 6 p.m.

Enforcement Consultants As necessary

Klamath Fishery Management Council As necessary

Tribal Policy Group As necessary

Tribal and Washington Technical GroupAs necessary

Washington State Delegation As necessary

WEDNESDAY, April 5, 2006

Council Secretariat 7 a.m.

California State Delegation 7 a.m.

Oregon State Delegation 7 a.m.

Groundfish Advisory Subpanel 8 a.m.

Groundfish Management Team 8 a.m.

Salmon Advisory Subpanel 8 a.m.

Salmon Technical Team 8 a.m.

Enforcement Consultants As necessary

Klamath Fishery Management Council As necessary

Tribal Policy Group As necessary

Tribal and Washington Technical Group As necessary

Washington State DelegationAs necessary

THURSDAY, April 6, 2006

Council Secretariat 7 a.m.

California State Delegation 7 a.m.

Oregon State Delegation 7 a.m.

Groundfish Advisory Subpanel 8 a.m.

Groundfish Management Team 8 a.m.

Salmon Advisory Subpanel 8 a.m.

Salmon Technical Team 8 a.m.

Enforcement Consultants As necessary

Tribal Policy Group As necessary

Tribal and Washington Technical Group As necessary

Washington State Delegation As necessary

FRIDAY, April 7, 2006

Council Secretariat 7 a.m.

California State Delegation 7 a.m.

Oregon State Delegation 7 a.m.

Enforcement Consultants As necessary

Salmon Advisory Subpanel As necessary

Salmon Technical Team As necessary

Tribal Policy Group As necessary

Tribal and Washington Technical Group As necessary

Washington State Delegation As necessary

Although nonemergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503- 820-2280 at least five days prior to the meeting date.

Dated: March 14, 2006.
Tracey L. Thompson,
Acting Director, Office of Sustainable Fisheries, National Marine Fisheries Service.

[FR Doc. E6-3892 Filed 3-16-06; 8:45 am]

BILLING CODE 3510-22-S